DEPARTMENT OF THE INTERIOR

National Park Service

[2253-665]

Notice of Inventory Completion: California Department of Parks and Recreation, Sacramento, CA

AGENCY: National Park Service, Interior.

ACTION: Notice.

SUMMARY: The California Department of Parks and Recreation has completed an inventory of human remains, in consultation with the appropriate Indian tribes, and has determined that there is a cultural affiliation between the human remains and present-day Indian tribes. Representatives of any Indian tribe that believes itself to be culturally affiliated with the human remains may contact the California Department of Parks and Recreation. Repatriation of the human remains to the Indian tribes stated below may occur if no additional claimants come forward.

DATES: Representatives of any Indian tribe that believes it has a cultural affiliation with the human should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3003, of the completion of an inventory of human remains under the control of the California Department of Parks and Recreation. The human remains were removed from three sites located in San Diego County, CA.

This notice is published as part of the National Park Service's administrative responsibilities under NAGPRA, 25 U.S.C. 3003(d)(3). The determinations in this notice are the sole responsibility of the museum, institution or Federal agency that has control of the Native American human remains. The National Park Service is not responsible for the determinations in this notice.

Consultation

A detailed assessment of the human remains was made by the California Department of Parks and Recreation professional staff in consultation with representatives of the Agua Caliente Band of Cahuilla Indians of the Agua Caliente Indian Reservation, California; Augustine Band of Cahuilla Indians, California (formerly the Augustine Band of Cahuilla Mission Indians of the Augustine Reservation); Cabazon Band of Mission Indians, California; Cahuilla Band of Mission Indians of the Cahuilla Reservation, California; Campo Band of Diegueno Mission Indians of the Campo Indian Reservation, California; Capitan Grande Band of Diegueno Mission Indians of California: Barona Group of Capitan Grande Band of Mission Indians of the Barona Reservation, California, and Viejas (Baron Long) Group of Capitan Grande Band of Mission Indians of the Viejas Reservation, California; Ewiiaapaayp Band of Kumeyaay Indians, California; Iipay Nation of Santa Ysabel, California (formerly the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Los Coyotes Band of Cahuilla and Cupeno Indians, California (formerly the Los Coyotes Band of Cahuilla & Cupeno Indians of the Los Coyotes Reservation); Manzanita Band of Diegueno Mission Indians of the Manzanita Reservation, California; Mesa Grande Band of Diegueno Mission Indians of the Mesa Grande Reservation, California; Morongo Band of Mission Indians, California (formerly the Morongo Band of Cahuilla Mission Indians of the Morongo Reservation); Ramona Band of Cahuilla, California (formerly the Ramona Band or Village of Cahuilla Mission Indians of California); San Pasqual Band of Diegueno Mission Indians of California; Santa Rosa Band of Cahuilla Indians, California (formerly the Santa Rosa Band of Cahuilla Mission Indians of the Santa Rosa Reservation); Sycuan Band of the Kumeyaay Nation; and Torres-Martinez Desert Cahuilla Indians, California (formerly the Torres-Martinez Band of Cahuilla Mission Indians of California) (hereafter referred to as “The Tribes”).

History and Description of the Remains

The human remains were removed from three sites located in San Diego County, CA. The geographical location of these sites indicates that the human remains were recovered within the historically documented territory shared by the Cahuilla and the Kumeyaay. Northern areas of the Anza Borrego Desert State Park, such as the San Felipe Creek drainage, Culp Valley, Pinyon Ridge, the Borrego Badlands, and the Borrego Valley, may have formed a so-called “transitional zone” between the Cahuilla and the Kumeyaay. The two groups would have used the areas jointly or, as convenient, for subsistence or ceremonial needs.

The traditional territory of the Kumeyaay includes a significant portion of present-day San Diego County up to the Aqua Hedionda area and inland along the San Felipe Creek (just south of Borrego Springs). Bound to the east by the Sand Hills in Imperial County and includes the southern end of the Salton Basin and all of the Chocolate Mountains, the territory extends southward to Todos Santos Bay, Laguna Salada and along the New River in northern Baja California. The central and southern portions of Anza Borrego Desert State Park lie within the traditional territory of the Kumeyaay.

The traditional aboriginal territory of the Cahuilla, as defined by anthropologist Lowell John Bean, encompasses a geographically diverse area of mountains, valleys and low desert zones. The southernmost boundary approximately followed a line from just below Borrego Springs to the north end of the Salton Basin and the Chocolate Mountains. The eastern boundary ran along the summit of the San Bernardino Mountains. The northern boundary stood within the San Jacinto Plain near Riverside, while the base of Palomar Mountain formed the western boundary. According to Bean and archeologist William D. Strong, the northern end of Anza Borrego Desert State Park lies within the traditional territory of the Cahuilla and includes the areas of Borrego Palm Canyon, Coyote Canyon, Clark Valley, the Santa Rosa Mountains, Jackass Flat, Rockhouse Canyon and Horse Canyon.

At an unknown date in the 1930s, a human incisor representing, at minimum, one individual was collected by Harry D. Ross from an unidentified site and added to the Harry D. Ross Collection. The Harry D. Ross collection, consisting primarily of flaked tools collected from Lower Borrego, Cuyamaca and Harper Flat, were later donated to the Bigole Archaeological Research Center in Borrego Springs, CA. No known individual was identified. No associated funerary objects are present. The age of the human remains is unknown. Given the lack of specific provenience, the geographical location of the site is impossible to determine. Based on the provenience of other objects in the Harry D. Ross Collection, it can be reasonably assumed that these remains were collected from the same geographic region as other objects in the collection.

At an unknown date in the 1970s, cremated human remains representing, at minimum, one individual were collected by archeologist William Seidel from an unidentified site northwest of the Borrego Sink in Borrego Springs, CA. No known individual was identified. No associated funerary objects are present. The age of the human remains is unknown.

At an unknown date prior to 1977, human remains representing, at minimum, one individual were removed by an unidentified individual from an unidentified site in the Anza Borrego Desert State Park and were donated to California State Parks by Lloyd T. Findley in 1977. No known individual was identified. No associated funerary objects are present. The age of the human remains is unknown.

At an unknown date prior to 1976, cremated human remains representing, at minimum, one individual were removed by an unidentified individual from an unidentified site in the Anza Borrego Desert State Park in San Diego County, CA, and were donated anonymously to California State Parks in 1976. No known individual was identified. No associated funerary objects are present. The age of the human remains is unknown.

At an unknown date prior to the 1970s, cremated human remains representing, at minimum, one individual were removed by an unidentified individual from an unidentified site in the Borrego Valley area of Anza Borrego Desert State Park. The cremated human remains were included in the DuVall Collection, which was later donated to California Department of Parks and Recreation in the 1970s. The DuVall Collection represents cultural materials collected on and around an early settlers' ranch in Borrego Valley. No known individual was identified. No associated funerary objects are present. The age of the human remains is unknown. Given the lack of specific provenience, the geographical location of the site is impossible to determine. Based on the provenience of the other objects from the DuVall Ranch in Borrego Valley, it can be reasonably assumed that these remains were collected from the same geographic region.

The human remains listed above were stored at facilities within the Colorado Desert District of the California Department of Parks and Recreation until an inventory effort was begun in 2004. Since then, the remains have been stored at the Bigole Archaeological Research Center (BARC-2) in Borrego Springs, CA.

Determinations made by the California Department of Parks and Recreation

Officials of the California Department of Parks and Recreation have determined that:

• Pursuant to 25 U.S.C. 3001(9), the human remains described in this notice represent the physical remains of five individuals of Native American ancestry.

• Pursuant to 25 U.S.C. 3001(2), there is a relationship of shared group identity that can be reasonably traced between the Native American human remains and The Tribes.

Additional Requestors and Disposition

Representatives of any Indian tribe that believes itself to be culturally affiliated with the human remains should contact Rebecca Carruthers, NAGPRA Coordinator, California Department of Parks and Recreation, 1416 9th Street, Room 902, telephone (916) 653-8893, before May 2, 2012. Repatriation of the human remains to The Tribes may proceed after that date if no additional claimants come forward.

The California Department of Parks and Recreation is responsible for notifying The Tribes that this notice has been published.

Dated: March 28, 2012.
Sherry Hutt,
Manager, National NAGPRA Program.

[FR Doc. 2012-7875 Filed 3-30-12; 8:45 am]

BILLING CODE 4312-50-P